DEPARTMENT OF DEFENSE

Office of the Secretary

TRICARE; Notice of TRICARE Plan Program Changes for Calendar Year 2022

AGENCY: Office of the Secretary of Defense, Department of Defense (DoD).

ACTION: TRICARE Plan Program Changes for Calendar Year 2022.

SUMMARY: This notice provides information regarding TRICARE Plan program changes for calendar year 2022.

DATES: TRICARE health plan information in this notice is valid for services during calendar year 2022 (January 1, 2022-December 31, 2022).

ADDRESSES: Defense Health Agency, TRICARE Health Plan, 7700 Arlington Boulevard, Suite 5101, Falls Church, Virginia 22042-5101.

FOR FURTHER INFORMATION CONTACT: Ms. Elan P. Green, Defense Health Agency, TRICARE Health Plan, email: elan.p.green.civ@mail.mil, phone: (303) 676-3907.

SUPPLEMENTARY INFORMATION: An interim final rule published in the Federal Register (FR) on September 29, 2017 (82 FR 45438-45461) established the requirement for the Director, Defense Health Agency, to provide a public notice to TRICARE program beneficiaries with a summary of changes to the TRICARE program each calendar year in connection with the open season enrollment period.

The following changes or improvements to the TRICARE program benefits apply for calendar year 2022:

Announcement of Open Season

Open Season is an annual period when you can enroll in or make changes to your coverage for the next year. TRICARE and Federal Employee Dental and Vision Insurance Program (FEDVIP) Open Season for Calendar Year (CY) 2021 occurs November 8-December 13, 2021.

TRICARE Open Season: During TRICARE Open Season you can enroll in or change your TRICARE Prime or TRICARE Select plan.

FEDVIP Open Season: FEDVIP Open Season is to enroll in or make changes to your dental and vision plans. Dental plans are offered by ten different carriers to eligible retirees and their family members and vision plans are offered by four different carriers to beneficiaries who have TRICARE coverage, including TRICARE for Life.

Any changes you make will take effect on January 1, 2022. If you remain eligible and do not make any changes during Open Season, then you will stay in the same plan for 2022. Improving what's covered:

Coronavirus Disease 2022 (COVID-19) Response

In regards to COVID-19 vaccination, although there is no separate copayment or cost-share for clinical preventive services, there may be a copayment, cost-share, or point of service (POS) charge if the vaccine is administered as part of a primary or specialty care visit for a reason other than preventive care or for other services received during the office visit.

Due to the widespread need for COVID-19 vaccines and the possibility that one day these vaccines may not be free-of-charge, on February 23, 2021, a notice was published in the Federal Register (86 FR 10942) advising TRICARE Prime enrollees, not including Active Duty Service Members (ADSMs), of a temporary waiver to the referral requirement so they may receive COVID-19 vaccines, a clinical preventive service, from any TRICARE Basic (medical) program authorized non-network provider without incurring POS charges where applicable. The effective date of the waiver was December 13, 2020. This waiver will expire when the President of the United States (US) declares the national emergency is terminated.

The following three temporary changes for care and treatment continue to be effective as of May 12, 2020, for care and treatment within the US and effective March 10, 2020, for the TRICARE Overseas Program: Temporary audio-only telephonic office visits; temporary waiver of cost-shares, co-pays and deductibles for all covered in-network telehealth services (for Prime and Select beneficiaries); and temporary interstate and international licensing. These changes will expire when the President of the US declares the national emergency is terminated, unless terminated, extended, or otherwise modified in a final rule published to the Federal Register. Overseas termination date may vary from the US date and will be determined by the Assistant Secretary of Defense for Health Affairs.

The following temporary changes were made and continue to be effective as of September 3, 2020, for care and treatment in the US and effective March 10, 2020, for the TRICARE Overseas Program: Temporary coverage of the treatment use of investigational drugs under expanded access for the treatment of COVID-19 and temporary coverage of temporary hospitals. This change will expire when the President of the US declares the national emergency is terminated, unless terminated, extended, or otherwise modified in a final rule published to the Federal Register.

Effective October 30, 2020, TRICARE temporarily covers National Institute for Allergy and Infectious Disease (NIAID) sponsored clinical trials when for the treatment or prevention of COVID-19. This change will expire when the President of the US declares the national emergency has terminated, unless terminated, extended, or otherwise modified in a final rule published to the Federal Register. A TRICARE beneficiary who is already enrolled in a NIAID-sponsored clinical trial prior to the end of the President's national emergency for COVID-19 will continue to have their care cost-shared through the end of the clinical trial.

Effective January 1, 2021, Transitional Assistant Management Program benefits are extended to National Guard members who have served more than thirty continuous days in support of the COVID-19 mission.

Screenings

Effective March 9, 2021, the United States Preventive Services Task Force (USPSTF) updated its annual screening recommendation for lung cancer performed through low-dose computer tomography so it is now covered for adults beginning at age fifty to eighty who have a 20 pack-per year smoking history and currently smoke or have quit within the past fifteen years instead of beginning at age fifty-five and only for those with a 30 pack per year smoking history.

Effective May 18, 2021, the USPSTF updated its annual screening recommendation for colorectal cancer for adults at average risk so they may now begin screening at age forty-five instead of beginning at age fifty.

Demonstrations, Programs & Pilots

Buckley Prime Service Area (PSA) Pilot. Health Net Federal Services launched a new value-based care pilot beginning January 1, 2021. Beneficiaries who live in the Buckley PSA and are enrolled in TRICARE Prime with a civilian primary care manager are automatically part of the pilot. The Buckley PSA Pilot is expected to run through December 31, 2022.

Childbirth and Breastfeeding Support Demonstration. Congress required the Department of Defense (DoD) to conduct a demonstration project beginning no later than January 1, 2022, to cover the services of doulas and lactation consultants/counselors not otherwise authorized under TRICARE. This demonstration project will run for five years, through December 31, 2026.

Planned Changes

Urgent Care Referrals: There is no limit to the number of urgent care visits that a Prime beneficiary (except for most Active Duty members) may receive without a referral. You can receive urgent care from any TRICARE authorized urgent care center (UCC) or network provider. If the enrollee seeks care from a non-network provider (except a TRICARE-authorized UCC), the usual POS deductible and cost-shares shall apply. The Department has no current plans to change this policy but in order to evaluate its ongoing appropriateness, it remains a year-by-year determination.

Prime Service Area Changes: There is no change to locations where TRICARE Prime will be offered. TRICARE Prime locations are a year-to-year determination and will be announced prior to the annual Open Season enrollment period.

Enrollment Fee Payment by Allotment: TRICARE retirees and their family members must pay enrollment fees by allotment, where feasible. Payment by allotment is not required if a beneficiary does not receive retired pay (e.g., unremarried former spouses, survivors) or the retired pay does not cover the monthly enrollment fee amount.

Effective December 17, 2020, Doctors of Podiatric Medicine or Podiatrists may prescribe physical therapy (PT) and occupational therapy (OT).

Effective February 24, 2021, ablative fractional laser treatment for symptomatic scars resulting from burns and other trauma is covered for up to five-years.

Added coverage of remote physiologic monitoring for chronic and acute conditions, including but not limited to weight, blood pressure, pulse oximetry, and respiratory flow monitoring.

For more information, visit tricare.mil/changes or call your regional TRICARE contractor.

Appendix A

Certain beneficiary out-of-pocket costs (enrollment fees, premiums, catastrophic caps, deductibles, and copayments) are annually adjusted based on federal law and regulations, most notably by the annual retiree cost of living adjustment, or Cost of Living Adjustment (COLA). Currently, there is a difference in copayments between those who joined the military before January 1, 2018, (Group A), and those who joined after that date (Group B). The retiree COLA will not be announced until mid-October 2021. As of June 2021, the projected COLA increase is 5.1 percent. Beneficiary out-of-pocket expenses impacted by the 2022 COLA will be posted to the tricare.mil/changes web page before the start of TRICARE Open Season, November 8, 2021 to December 13, 2021.

Pharmacy Out-of-Pocket Expenses for CY 2022

TRICARE Pharmacy out-of-pocket expenses are listed in the table below that take effect on January 1, 2022.

Table 1—Pharmacy Copayments for Calendar Year 2022
Year | Copayment amount for a 30-day supply of a retail generic is: | Copayment amount for a 30-day supply of a retail formulary is: | Copayment amount for a 90-day supply of a mail order generic is: | Copayment amount for a 90-day supply of a mail order formulary is: | Copayment amount for a 90-day supply of a mail order non-formulary is:
2022 | $14 | $38 | $12 | $34 | $68

Dated: September 13, 2021.
Aaron T. Siegel,
Alternate OSD Federal Register Liaison Officer, Department of Defense.

[FR Doc. 2021-20309 Filed 9-20-21; 8:45 am]

BILLING CODE 5001-06-P